DEPARTMENT OF AGRICULTURE

Animal and Plant Health Inspection Service

[Docket No. APHIS-2016-0093]

Addition of Moldova to the List of Regions Affected by African Swine Fever

AGENCY: Animal and Plant Health Inspection Service, USDA.

ACTION: Notice.

SUMMARY: We are advising the public that we have added Moldova to the Animal and Plant Health Inspection Service (APHIS) list maintained on the APHIS Web site of regions considered affected with African swine fever (ASF). We are taking this action because of the confirmation of ASF in Moldova.

DATES: Effective Date: The addition of Moldova to the APHIS list of regions considered affected with ASF is effective retroactively to October 4, 2016.

FOR FURTHER INFORMATION CONTACT: Mr. Donald Link, Microbiologist/Import Risk Analyst, National Import Export Services, VS, 920 Main Campus Drive, Suite 200, Raleigh, NC 27606; (919) 855-7731; Donald.B.Link@aphis.usda.gov.

SUPPLEMENTARY INFORMATION: The regulations in 9 CFR part 94 (referred to below as the regulations) govern the importation of specified animals and animal products to prevent the introduction into the United States of various animal diseases, including rinderpest, foot-and-mouth disease, bovine spongiform encephalopathy, swine vesicular disease, classical swine fever, and African swine fever (ASF). These are dangerous and destructive diseases of ruminants and swine.

Sections 94.8 and 94.17 of part 94 of the regulations contain requirements governing the importation into the United States of pork and pork products from regions of the world where ASF exists or is reasonably believed to exist and imposes restrictions on the importation of pork and pork products into the United States from those regions. ASF is a highly contagious disease of wild and domestic swine that can spread rapidly in swine populations with extremely high rates of morbidity and mortality. A list of regions where ASF exists or is reasonably believed to exist is maintained on the Animal and Plant Health Inspection Service (APHIS) Web site at https://www.aphis.usda.gov/aphis/ourfocus/animalhealth/animal-and-animal-product-import-information/ct_animal_disease_status.

APHIS receives notice of ASF outbreaks from veterinary officials of the exporting country, from the World Organization for Animal Health (OIE), or from other publically available sources the Administrator determines to be reliable. In a report dated October 4, 2016, the veterinary authorities of Moldova reported to the OIE confirmation of an ASF outbreak in the Donduseni District of Moldova.

Although Moldova does not currently export pork or pork products to the United States, APHIS has determined that it is necessary to impose restrictions on the importation of pork and pork products from Moldova into the United States. Therefore, in response to this outbreak, APHIS added Moldova to the list of regions where ASF exists or is reasonably believed to exist.

As a result, pork and pork products from Moldova are subject to APHIS import restrictions designed to mitigate the risk of ASF introduction into the United States. These restrictions are effective retroactively to October 4, 2016.

Authority: 7 U.S.C. 450, 7701-7772, 7781-7786, and 8301-8317; 21 U.S.C. 136 and 136a; 31 U.S.C. 9701; 7 CFR 2.22, 2.80, and 371.4.

Done in Washington, DC, this 12th day of January 2017.
Kevin Shea,
Administrator, Animal and Plant Health Inspection Service.

[FR Doc. 2017-01270 Filed 1-18-17; 8:45 am]

BILLING CODE 3410-34-P